DEPARTMENT OF STATE

[Public Notice 8416]

Preparations for the International Telecommunication Union Plenipotentiary Conference 2014

This notice announces a meeting of the Department of State's International Telecommunication Advisory Committee (ITAC) to initiate preparations for the International Telecommunication Union (ITU) Plenipotentiary Conference 2014 (PP14).

The ITAC will meet on September 10, 2013 at 2PM EDT to initiate preparations for the ITU Plenipotentiary Conference 2014 (PP14) and schedule additional follow-on PP14 preparatory meetings, as well as review the structure of all the ad hoc committees working within the ITAC committee, and review the work of these ad hoc committees. This meeting of the ITAC will be held at 1200 Wilson Boulevard, Arlington, VA 22209.

The review will also include an update on the preparations for the World Telecommunication Development Conference (WTDC-2014) in light of the Regional Preparatory Meeting (RPM) for the Americas region; as well as the World Summit on the Information Society+10 high level event in conjunction with WTDC-2014.

Details on these additional ITAC meetings for preparations for PP14 and other ITAC meetings will be announced on the Department of State's email list, ITAC@lmlist.state.gov. Use of ITAC lists is limited to meeting announcements and confirmations, distribution of agendas and other meeting documents such as Contributions. Participation on the ITAC lists is open.

People wishing to participate in the ITAC list, desiring further information on this or other preparatory meetings, including those wishing to request reasonable accommodation to attend the meeting, should contact the Secretariat at minardje@state.gov.

Attendance at these meetings is open to the public as seating capacity allows. The public will have an opportunity to provide comments at these meetings. A conference bridge will be provided to those people outside the Washington Metro area who request it from the secretariat.

Dated: July 31, 2013.
Marian Gordon,
Foreign Affairs Officer, International Communications & Information Policy, U.S. Department of State.

[FR Doc. 2013-19344 Filed 8-8-13; 8:45 am]

BILLING CODE 4710-07-P